DEPARTMENT OF THE INTERIOR

Minerals Management Service

Gulf of Mexico, Outer Continental Shelf, Central Planning Area, Oil and Gas Lease Sale 207 (2008) Environmental Assessment

AGENCY: Minerals Management Service, Interior.

ACTION: Notice of availability of an environmental assessment.

SUMMARY: The Minerals Management Service (MMS) is issuing this notice to advise the public, pursuant to the National Environmental Policy Act of 1969 (NEPA), as amended, 42 U.S.C. 4321 et seq., that MMS has prepared an environmental assessment (EA) for proposed Outer Continental Shelf (OCS) oil and gas Lease Sale 207 in the Western Gulf of Mexico (GOM) Planning Area (WPA) (Lease Sale 207) scheduled for August 2008. The preparation of this EA is an important step in the decision process for Lease Sale 207. The proposal for Lease Sale 207 was identified by the Call for Information and Nominations published in the Federal Register on December 3, 2007, and was analyzed in the Gulf of Mexico OCS Oil and Gas Lease Sales: 2007-2012; Western Planning Area Sales 204, 207, 210, 215, and 218; Central Planning Area Sales 205, 206, 208, 213, 216, and 222—Final Environmental Impact Statement; Volumes I and II (Multisale EIS, OCS EIS/EA MMS 2007-018). The proposal includes approximately 28.6 million acres offshore Texas and western Louisiana in water up to 10,978 ft (3,346 m) deep. This EA for proposed Lease Sale 207 reexamined the potential environmental effects of offering for lease all unleased blocks in the WPA (excluding unleased whole and partial blocks that are part of Flower Garden Banks National Marine Sanctuary, and whole and partial blocks that lie within the 1.4-nautical mile buffer zone north of the outer continental shelf boundary between the U.S. and Mexico). Alternatives excluded additional blocks in biologically sensitive areas of the western GOM, use of a nomination and tract selection leasing system, and no action. The EA determined that no new information about environmental resources or potential impacts were identified that were not considered in the Multisale EIS. MMS determined that a Supplemental EIS is not required and prepared a Finding of No New Significant Impact (FONNSI).

FOR FURTHER INFORMATION CONTACT: Mr. Dennis Chew, Minerals Management Service, Gulf of Mexico OCS Region, 1201 Elmwood Park Boulevard, MS 5410, New Orleans, Louisiana 70123-2394. You may also contact Mr. Chew by telephone at (504) 736-2793.

SUPPLEMENTARY INFORMATION: In April 2007, MMS published a Multisale EIS that addressed 11 proposed Federal actions that would offer for lease areas on the GOM OCS that may contain economically recoverable oil and gas resources. Federal regulations allow for several related or similar proposals to be analyzed in one EIS (40 CFR 1502.4). Since each proposed lease sale and its projected activities are very similar each year for each planning area, a single EIS was prepared for the 11 WPA and Central Planning Area (CPA) lease sales scheduled in the proposed OCS Oil and Gas Leasing Program: 2007-2012 (5-Year Program). The Multisale EIS addressed WPA Lease Sale 204 in 2007, Sale 207 in 2008, Sale 210 in 2009, Sale 215 in 2010, and Sale 218 in 2011; and CPA Lease Sale 205 in 2007, Sale 206 in 2008, Sale 208 in 2009, Sale 213 in 2010, Sale 216 in 2011, and Sale 222 in 2012. Although the Multisale EIS addresses 11 proposed lease sales, at the completion of the EIS process, Records of Decision were published in July and August 2007 for only proposed WPA Lease Sale 204 and proposed CPA Lease Sale 205, respectively. An additional NEPA review (an EA) was conducted for proposed Lease Sale 207 to address any new information relevant to the proposed lease sale. Additional NEPA reviews will also be conducted prior to decisions on each of the remaining proposed lease sales. The purpose of an EA for a lease sale is to determine whether to prepare a FONNSI or a Supplemental EIS. For each proposed lease sale, MMS prepares a Consistency Determination (CD) to determine whether the lease sale is consistent with each affected State's federally-approved coastal zone management program. Finally, MMS solicits comments via the Proposed Notice of Sale (PNOS) from the governors of the affected States on the size, timing, and location of the lease sale. The tentative schedule for the prelease decision process for Lease Sale 207 is as follows: CDs sent to affected States, March 2008; PNOS sent to governors of the affected States, March 2008; Final Notice of Sale published in the Federal Register, July 2008; and Lease Sale 207, August 2008.

Public Comments: Within 30 days of this Notice's publication, interested parties are requested to send comments on this EA/FONNSI. Comments may be submitted in one of the following two ways:

1. In written form enclosed in an envelope labeled “Comments on WPA Lease Sale 207 EA” and mailed (or hand carried) to the Regional Supervisor, Leasing and Environment (MS 5410), Minerals Management Service, Gulf of Mexico OCS Region, 1201 Elmwood Park Boulevard, New Orleans, Louisiana 70123-2394.

2. Electronically to the MMS e-mail address: environment@mms.gov.

All comments received will be considered in the decisionmaking process for proposed Lease Sale 207.

EA Availablity: To obtain a copy of this EA for Lease Sale 207, you may contact the Minerals Management Service, Gulf of Mexico OCS Region, Attention: Public Information Office (MS 5034), 1201 Elmwood Park Boulevard, Room 114, New Orleans, Louisiana 70123-2394 (1-800-200-GULF). You may also view this EA on the MMS Web site at http://www.gomr.mms.gov/homepg/regulate/environ/nepa/nepaprocess.html.

Dated: February 29, 2008.
Chris C. Oynes,
Associate Director for Offshore Minerals Management.

[FR Doc. E8-6008 Filed 3-24-08; 8:45 am]

BILLING CODE 4310-MR-P